DEPARTMENT OF HOMELAND SECURITY

Federal Emergency Management Agency

44 CFR Part 67

[Docket ID FEMA-2016-0002]

Final Flood Elevation Determinations

AGENCY: Federal Emergency Management Agency, DHS.

ACTION: Final rule.

SUMMARY: Base (1-percent-annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The Federal Emergency Management Agency (FEMA) makes the final determinations listed below for the modified BFEs for each community listed. These modified elevations have been published in newspapers of local circulation and ninety (90) days have elapsed since that publication. The Deputy Associate Administrator for Insurance and Mitigation has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community.

The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Dated: June 20, 2016.
Roy E. Wright,
Deputy Associate Administrator for Insurance and Mitigation, Department of Homeland Security, Federal Emergency Management Agency.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground ‸ Elevation in meters (MSL) Modified | Communities affected
Onondaga County, New York (All Jurisdictions)
Docket Nos.: FEMA-B-1002 and B-1076
DeRuyter Reservoir | Shoreline of DeRuyter Reservoir within Onondaga County | + 1282 | Town of Fabius.
Geddes Brook | Approximately 245 feet downstream of Gere Lock Road | + 381 | Village of Solvay.
| At Gere Lock Road bridge | + 396
Harbor Brook | Approximately 300 feet upstream of the Onondaga Lake confluence | + 372 | City of Syracuse, Town of Geddes, Town of Onondaga.
| Approximately 860 feet upstream of State Route 173 | + 782
Limestone Creek | Approximately 2,990 feet upstream of North Manlius Road | + 399 | Town of Manlius, Village of Fayetteville, Village of Manlius, Village of Minoa.
| Approximately 160 feet upstream of Pompey Center Road | + 725
Meadow Brook | At the Old Erie Canal Feeder confluence | + 429 | City of Syracuse, Town of Dewitt.
| Approximately 220 feet downstream of Meadow Brook Drive | + 541
Ninemile Creek | Approximately 2,150 feet upstream of the Onondaga Lake confluence | + 371 | Town of Camillus, Town of Geddes, Town of Marcellus, Village of Camillus, Village of Marcellus.
| Approximately 350 feet upstream of Otisco Valley Road | + 781
Onondaga Creek | Just upstream of Bear Street | + 371 | City of Syracuse, Town of Onondaga.
| Approximately 1.1 miles upstream of Dorwin Avenue | + 431
Otisco Lake | Entire shoreline of Otisco Lake within the Towns of Marcellus, Spafford and Otisco | + 789 | Town of Marcellus, Town of Otisco, Town of Spafford.
Skaneateles Creek | Approximately 1.4 miles downstream of Interstate 90 | + 385 | Town of Elbridge, Town of Skaneateles, Village of Elbridge, Village of Jordan, Village of Skaneateles.
| Approximately 960 feet upstream of Kelley Street | + 860
Thompson Brook | At South Bay Road Bridge | + 382 | Village of North Syracuse.
| Approximately 265 feet upstream of I-481 ramp | + 383
Tully Lake | Shoreline of Tully Lake within Onondaga County | + 1195 | Town of Tully.
* National Geodetic Vertical Datum.
+ North American Vertical Datum.
# Depth in feet above ground.
‸ Mean Sea Level, rounded to the nearest 0.1 meter.
ADDRESSES:
City of Syracuse
Maps are available for inspection at City Hall, 233 East Washington Street, Syracuse, NY 13202.
Town of Camillus
Maps are available for inspection at the Camillus Municipal Building, 4600 West Genesee Street, Syracuse, NY 13219.
Town of Dewitt
Maps are available for inspection at the Dewitt Town Hall, 5400 Butternut Drive, East Syracuse, NY 13057.
Town of Elbridge
Maps are available for inspection at the Elbridge Municipal Offices, 5 State Route 31, Jordan, NY 13080.
Town of Fabius
Maps are available for inspection at the Town Hall, 7786 Main Street, Fabius, NY 13063.
Town of Geddes
Maps are available for inspection at the Geddes Town Hall, 1000 Woods Road, Solvay, NY 13209.
Town of Manlius
Maps are available for inspection at the Manlius Town Hall, 301 Brooklea Drive, Fayetteville, NY 13066.
Town of Marcellus
Maps are available for inspection at the Town Hall, 24 East Main Street, Marcellus, NY 13108.
Town of Onondaga
Maps are available for inspection at the Onondaga Town Hall, 5020 Ball Road, Syracuse, NY 13215.
Town of Otisco
Maps are available for inspection at the Otisco Town Hall, 1924 Barker Street, Tully, NY 13159.
Town of Skaneateles
Maps are available for inspection at the Town Hall, 24 Jordan Street, Skaneateles, NY 13152.
Town of Spafford
Maps are available for inspection at the Spafford Town Hall, 1984 State Route 174, Skaneateles, NY 13152.
Town of Tully
Maps are available for inspection at the Municipal Building, 5833 Meetinghouse Road, Tully, NY 13159.
Village of Camillus
Maps are available for inspection at the Village Hall, 37 Main Street, Camillus, NY 13031.
Village of Elbridge
Maps are available for inspection at the Village Hall, 210 West Main Street, Elbridge, NY 13060.
Village of Fayetteville
Maps are available for inspection at the Village Hall, 425 East Genesee Street, Fayetteville, NY 13066.
Village of Jordan
Maps are available for inspection at the Village Office, 7 Mechanic Street, Jordan, NY 13080.
Village of Manlius
Maps are available for inspection at the Village Centre, One Arkie Albanese Avenue, Manlius, NY 13104.
Village of Marcellus
Maps are available for inspection at the Village Office, 6 Slocombe Avenue, Marcellus, NY 13108.
Village of Minoa
Maps are available for inspection at the Village Office, 240 North Main Street, Minoa, NY 13116.
Village of North Syracuse
Maps are available for inspection at the Village Hall, 600 South Bay Road, North Syracuse, NY 13212.
Village of Skaneateles
Maps are available for inspection at the Village Hall, 26 Fennell Street, Skaneateles, NY 13152.
Village of Solvay
Maps are available for inspection at the Village Hall, 1100 Woods Road, Solvay, NY 13209.

[FR Doc. 2016-17731 Filed 7-26-16; 8:45 am]

BILLING CODE 9110-12-P